FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 7, 2011.

A. Federal Reserve Bank of Kansas City (Dennis Denney, Assistant Vice President) 1 Memorial Drive, Kansas City, Missouri 64198-0001:

1. Teresa N. Pfaff, Lancaster, South Carolina; as a member of a group acting in concert, to acquire voting shares of First National Fairbury Corporation, and thereby indirectly acquire voting shares of The First National Bank of Fairbury, both in Fairbury, Nebraska.

B. Federal Reserve Bank of San Francisco (Kenneth Binning, Vice President, Applications and Enforcement) 101 Market Street, San Francisco, California 94105-1579:

1. James Gaines McCullar and Carolyn Jean McCullar, both of Soap Lake, Washington; to acquire voting shares of Riverbank Holding Company, and thereby indirectly acquire Riverbank, both in Spokane, Washington.

Board of Governors of the Federal Reserve System, September 19, 2011.
Robert deV. Frierson,
Deputy Secretary of the Board.

[FR Doc. 2011-24389 Filed 9-21-11; 8:45 am]

BILLING CODE 6210-01-P